DEPARTMENT OF THE INTERIOR

Fish and Wildlife Service

[FWS-R5-R-2009-N0102; BAC-4311-K9-S3]

Great Bay National Wildlife Refuge, Rockingham County, NH

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) document for Great Bay National Wildlife Refuge (NWR). We provide this notice in compliance with our CCP policy to advise other Federal and State agencies, Tribes, and the public of our intentions, and to obtain suggestions and information on the scope of issues to consider in the planning process.

DATES: To ensure consideration, we must receive your written comments by July 17, 2009. Special mailings, newspaper articles, and other media announcements will be used to inform the public and State and local government agencies of the opportunities for input throughout the planning process. A public scoping meeting will be held early in the CCP development process. The date, time, and place for the meeting will be announced in the local media.

ADDRESSES: Send comments, questions, and requests for information to: Great Bay National Wildlife Refuge, c/o Parker River NWR, 6 Plum Island Turnpike, Newburyport, MA 01950; 978-465-5753 (phone); 978-465-2807 (fax); fw5rw_prnwr@fws.gov (e-mail); http://www.fws.gov/northeast/parkerriver (Web site).

FOR FURTHER INFORMATION CONTACT: Mr. Mao Lin, Assistant Planner, U.S. Fish and Wildlife Service, 300 Westgate Center Drive, Hadley, MA 01035; 413-253-8556 (phone); 413-253-8468 (fax); northeastplanning@fws.gov (e-mail).

SUPPLEMENTARY INFORMATION:

Introduction

With this notice, we initiate our process for developing a CCP for Great Bay NWR in Rockingham County, New Hampshire, which includes a conservation easement in Merrimack County, New Hampshire. Both units are managed by Parker River NWR in Essex County, Massachusetts. This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each refuge. The purpose for developing a CCP is to provide refuge managers with a 15-year strategy for achieving refuge purposes and contributing to the mission of the National Wildlife Refuge System (NWRS), consistent with sound principles of fish and wildlife management, conservation, legal mandates, and our policies. In addition to outlining broad management direction for conserving wildlife and their habitats, CCPs identify wildlife-dependent recreational opportunities available to the public, including opportunities for hunting, fishing, wildlife observation, wildlife photography, and environmental education and interpretation. We will review and update the CCP at least every 15 years in accordance with the Improvement Act.

Each refuge of the NWRS was established for specific purposes. We use these purposes as the foundation for developing and prioritizing the management goals and objectives for each refuge within the NWRS mission, and to determine how the public can use each refuge. The planning process is a way for us and the public to evaluate management goals and objectives for the best possible conservation approach to this important wildlife habitat, while providing for wildlife-dependent recreational opportunities that are compatible with the refuge's establishing purposes and the mission of the NWRS.

Our CCP process provides participation opportunities for Tribal, State, and local governments; other Federal agencies, organizations, refuge neighbors, and the public. At this time, we encourage input in the form of issues, concerns, ideas, and suggestions for the future management of Great Bay NWR.

We will conduct the environmental review of this project and develop an environmental assessment in accordance with the requirements of the NEPA, as amended (42 U.S.C. 4321 et seq.); NEPA regulations (40 CFR parts 1500-1508); other appropriate Federal laws and regulations; and our policies and procedures for compliance with those laws and regulations.

Great Bay NWR, which encompasses 1,089 acres, was established in 1992 to encourage natural diversity, protect listed species, and preserve and enhance water quality. The refuge is located on a portion of the former Pease Air Force Base. Despite past land uses, including active military operations, the refuge has a diversity of habitat types including oak-hickory forest, grasslands, shrub thickets, fresh and saltwater wetlands, and open water habitats. The refuge includes 7 miles of shoreline and is the largest parcel of protected land on Great Bay. In addition, Great Bay NWR includes a 28-acre conservation easement in Concord, New Hampshire, with a mix of open pitch pine-scrub, pine-hardwood, and other scrubland. The easement is managed primarily for the federally endangered Karner blue butterfly. Since 2008, Great Bay NWR and the Karner blue butterfly easement have been managed by Parker River NWR in Newburyport, Massachusetts.

Public Availability and Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: May 22, 2009.
James G. Geiger,
Acting Regional Director, U.S. Fish and Wildlife Service, Hadley, MA 01035.

[FR Doc. E9-14222 Filed 6-16-09; 8:45 am]

BILLING CODE 4310-55-P